DEPARTMENT OF TRANSPORTATION

Federal Aviation Administration

14 CFR Part 39

[Docket No. 2000-NM-125-AD]

RIN 2120-AA64

Airworthiness Directives; Empresa Brasileira de Aeronautica, S.A. (EMBRAER), Model EMB-120 Series Airplanes

AGENCY: Federal Aviation Administration, DOT.

ACTION: Notice of proposed rulemaking (NPRM).

SUMMARY: This document proposes the supersedure of an existing airworthiness directive (AD), applicable to all EMBRAER Model EMB-120 series airplanes, that currently requires revising the Airplane Flight Manual (AFM) to include requirements for activation of the ice protection systems and to add information regarding operation in icing conditions; installing an ice detector system; and revising the AFM to include procedures for testing system integrity. This action would require installing the ice detector system in accordance with revised procedures. This proposal is prompted by issuance of mandatory continuing airworthiness information by a foreign civil airworthiness authority. The actions specified by the proposed AD are intended to ensure that the flightcrew is able to recognize the formation of significant ice accretion and take appropriate action; such formation of ice could result in reduced controllability of the airplane in normal icing conditions.

DATES: Comments must be received by October 20, 2000.

ADDRESSES: Submit comments in triplicate to the Federal Aviation Administration (FAA), Transport Airplane Directorate, ANM-114, Attention: Rules Docket No. 2000-NM-125-AD, 1601 Lind Avenue, SW., Renton, Washington 98055-4056. Comments may be inspected at this location between 9:00 a.m. and 3:00 p.m., Monday through Friday, except Federal holidays. Comments may also be sent via the Internet using the following address: 9-anm-nprmcomment@faa.gov. Comments sent via the Internet must contain “Docket No. 2000-NM-125-AD” in the subject line and need not be submitted in triplicate. Comments sent via the Internet as attached electronic files must be formatted in Microsoft Word 97 for Windows or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia.

FOR FURTHER INFORMATION CONTACT: Carla Worthey, Program Manager, Program Management & Services Branch, ACE-118A, FAA, Atlanta Aircraft Certification Office, One Crown Center, 1895 Phoenix Boulevard, suite 450, Atlanta, Georgia 30349; telephone (770) 703-6062; fax (770) 703-6097.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-125-AD.” The postcard will be date stamped and returned to the commenter.

Availability of NPRMs

Any person may obtain a copy of this NPRM by submitting a request to the FAA, Transport Airplane Directorate, ANM-114, Attention: Rules Docket No. 2000-NM-125-AD, 1601 Lind Avenue, SW., Renton, Washington 98055-4056.

Discussion

On December 11, 1997, the FAA issued AD 97-26-06, amendment 39-10249 (62 FR 66512, December 19, 1997), applicable to all EMBRAER Model EMB-120 series airplanes, to require revising the Airplane Flight Manual (AFM) to include requirements for activation of the ice protection systems and to add information regarding operation in icing conditions; installing an ice detector system; and revising the AFM to include procedures for testing system integrity. That action was prompted by reports indicating that flightcrews experienced difficulties controlling the airplane during (or following) flight in normal icing conditions, when the ice protection system either was not activated when ice began to accumulate on the airplane, or the ice protection system was never activated. These difficulties may have occurred because the flightcrews did not recognize that a significant enough amount of ice had formed on the airplane to require activation of the deicing equipment. The requirements of that AD are intended to ensure that the flightcrew is able to recognize the formation of significant ice accretion and take appropriate action; such formation of ice could result in reduced controllability of the airplane in normal icing conditions.

Actions Since Issuance of Previous Rule

Since the issuance of that AD, the Departmento de Aviacao Civil (DAC), which is the airworthiness authority for Brazil, has advised the FAA that certain procedures (required by AD 97-26-06) for installing the ice detector system improperly affect the logic of the deicing system warning messages. The manufacturer has issued revised procedures.

Explanation of Relevant Service Information

EMBRAER has issued Service Bulletin 120-30-0027, Change 02, dated December 3, 1997; Change 03, dated June 26, 1998; and Change 04, dated July 13, 1999. The service bulletin describes procedures for installing an ice detector system. The procedures described in Changes 02-04 differ in several ways from those described in the original version of the service bulletin (which was cited in AD 97-26-06 as the appropriate source of service information for the installation) and its first revision. Changes 02-04 provide:

• Additional actions for airplanes modified in accordance with the original or first revised service bulletin.

• Additional installation instructions for airplanes that were originally equipped with provisions only for the system installation.

• Information to correct the system accomplishment.

• Correction of certain editorial errors.

• Correction of certain effectivity listings.

• Correction of information in certain steps related to follow-up testing.

The DAC classified Change 02 and subsequent revisions of the service bulletin as mandatory and issued Brazilian airworthiness directive 97-06-03R1, dated December 15, 1997, in order to ensure the continued airworthiness of these airplanes in Brazil.

FAA's Conclusions

This airplane model is manufactured in Brazil and is type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Proposed Rule

Since an unsafe condition has been identified that is likely to exist or develop on other airplanes of the same type design registered in the United States, the proposed AD would supersede AD 97-26-06 to continue to require revising the Airplane Flight Manual (AFM) to include requirements for activation of the ice protection systems and to add information regarding operation in icing conditions; installing an ice detector system; and revising the AFM to include procedures for testing system integrity. The proposed AD would require that the ice detector system be installed in accordance with revised procedures. The actions would be required to be accomplished in accordance with the AFM revisions, and in accordance with Change 02, 03, or 04 of the service bulletin, all described previously.

Difference Between Proposed AD and Foreign Airworthiness Directive

This proposed AD and the Brazilian airworthiness directive differ in the compliance times to install the ice detector system. The Brazilian airworthiness directive mandated the installation by June 1, 1998 (6 months after the effective date). However, the FAA has determined that an interval of six months would not address the identified unsafe condition in a timely manner. In developing an appropriate compliance time for this AD, the FAA considered not only the manufacturer's recommendation, but the degree of urgency associated with addressing the subject unsafe condition, the average utilization of the affected fleet, and the time necessary to install the ice detector system. In light of these factors, the FAA finds a 30-day compliance time for initiating the required actions to be warranted, in that it represents an appropriate interval of time allowable for affected airplanes to continue to operate without compromising safety.

Cost Impact

There are approximately 250 airplanes of U.S. registry that would be affected by this proposed AD.

The AFM revisions currently required by AD 97-26-06 and retained in this proposed AD take approximately 1 work hour per airplane to accomplish, at an average labor rate of $60 per work hour. Based on these figures, the cost impact of the AFM revision on U.S. operators is estimated to be $60 per airplane.

The complete installation currently required by AD 97-26-06 and retained in this proposed AD takes approximately 53 work hours per airplane to accomplish, at an average labor rate of $60 per work hour. Required parts would cost approximately $13,054 per airplane. Based on these figures, the cost impact of the installation on U.S. operators is estimated to be $16,234 per airplane.

The additional installations described in Parts III and IV of EMBRAER Service Bulletin 120-30-0027 (Change 02, 03, or 04) would each take approximately 5 work hours per airplane. The additional tests described in Part VI would take approximately 2 work hours per airplane to accomplish. The average labor rate is $60 per work hour. Information regarding the cost of parts required to accomplish the modifications described in Parts III and IV is unavailable at this time; there would be no cost for parts required to complete Part VI. Based on these figures, the cost impact of the additional modifications and tests proposed by this AD on U.S. operators required for those airplanes that have previously complied with the original issue or Change 01 of the service bulletin is estimated to be as high as $420 per airplane (excluding parts).

The cost impact figures discussed above are based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10249 (62 FR 66512, December 19, 1997), and by adding a new airworthiness directive (AD), to read as follows:

Empresa Brasileira de Aeronautica, S.A. (EMBRAER): Docket 2000-NM-125-AD. Supersedes AD 97-26-06, Amendment 39-10249.

Applicability: All Model EMB-120 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c)(1) of this AD. The request should include an assessment of the effect of the modification, alteration, or repair on the unsafe condition addressed by this AD; and, if the unsafe condition has not been eliminated, the request should include specific proposed actions to address it.

Compliance: Required as indicated, unless accomplished previously.

To ensure that the flightcrew is able to recognize the formation of significant ice accretion, which could result in reduced controllability of the airplane in normal icing conditions, accomplish the following:

Restatement of Certain Requirements of AD 97-26-06

(a) Within 30 days after January 23, 1998 (the effective date of AD 97-26-06, amendment 39-10249), accomplish paragraphs (a)(1) and (a)(2) of this AD.

AFM Revisions—Limitations Section

(1) Revise the Limitations Section of the FAA-approved Airplane Flight Manual (AFM) to include the following requirements for activation of the ice protection systems. This may be accomplished by inserting a copy of this AD in the AFM.

TURN ON ICE PROTECTION SYSTEM and IGNITION SWITCHES AS FOLLOWS:

• AOA, TAT, SLIP, ENGINE AIR INLET, and IGNITION SWITCHES:

—When atmospheric or ground icing conditions exist.

• PROPELLER:

—When atmospheric or ground icing conditions exist, OR

—At the first sign of ice formation anywhere on the aircraft.

• WING and TAIL LEADING EDGES, and WINDSHIELD:

—At the first sign of ice formation anywhere on the aircraft.

Note: On takeoff, delay activation of the wing and tail leading edge de-ice systems until reaching the final segment speed.

Note: Atmospheric icing conditions exist when:

—Indicated Outside Air Temperature (OAT) during ground operations or Total Air Temperature (TAT) in flight is 10 degrees C or below; and

—Visible moisture in any form is present (such as clouds, fog with visibility of one mile or less, rain, snow, sleet, or ice crystals).

Note: Ground icing conditions exist when:

—Indicated OAT during ground operations is 10 degrees C or below; and

—Surface snow, standing water, or slush is present on the ramps, taxiways, or runways.

Note: For Operation in Atmospheric Icing Conditions:

—Follow the procedures in the Normal Procedures Section under “Operation in Icing Conditions.”

AFM Revisions—Normal Procedures Section

(2) Revise the Normal Procedures Section of the FAA-approved AFM to include the following additional and revised information regarding operation in icing conditions. This may be accomplished by inserting a copy of this AD in the AFM.

“Under DAILY CHECKS of the Ice Protection System, add the following:

The following tests must be performed prior to the first flight of the day for which known or forecast icing conditions are anticipated.

Ice Detector System TEST Button (if installed)—PRESS

Check normal test sequence.

Under APPROACH Checklist, add the following:

Minimum Airspeed—APPROPRIATE TO FLAP POSITION (See Table Below)

Gear/Flap | Minimum recommended airspeed
UP/0° | 150 KIAS
UP/15° | 130 KIAS

Under OPERATION IN ICING CONDITIONS for FLYING INTO ICING CONDITION, replace the current AFM section information for normal icing conditions with the following:

—During flight, monitoring for icing conditions should start whenever the indicated outside air temperature is near or below freezing or when operating into icing conditions, as specified in the Limitations Section of this manual.

—When operating in icing conditions, the front windshield corners (unheated areas), propeller spinners, and wing leading edges will provide good visual cues of ice accretion.

—For airplanes equipped with an ice detection system, icing conditions will also be indicated by the illumination of the ICE CONDITION light on the multiple alarm panel.

—When atmospheric or ground icing conditions exist, proceed as follows:

AOA, TAT, SLIP, and ENGINE AIR INLET—ON

IGNITION Switches—ON

AIRSPEED (Flaps and Gear UP)—60 KIAS MINIMUM

—When atmospheric or ground icing conditions exist, OR

—At the first sign of ice formation anywhere on the aircraft, proceed as follows:

PROPELLER Deicing Switch—ON

Select NORM mode if indicated OAT is above −10°C (14°F) or COLD mode if indicated OAT is below −10°C (14°F).

—At the first sign of ice formation anywhere on the aircraft, proceed as follows:

WINDSHIELD—ON

WING and TAIL LEADING EDGE—ON

Visually evaluate the severity of the ice encounter and the rate of accretion and select light or heavy mode (1-minute or 3-minute cycle) based on this evaluation.

Note: On takeoff, delay activation of the wing and tail leading edge de-ice systems until reaching the final segment speed.

Note: The minimum NH required for proper operation of the pneumatic deicing system is 80%. At lower NH values, the pneumatic deicing system may not totally inflate, and the associated failure lights on the overhead panel may illuminate. If this occurs, increase NH.

Holding configuration:

Landing Gear Lever—UP

Flap Selector Lever—UP

NP—85% MINIMUM

Increase NP as required to eliminate propeller vibrations.

Approach and Landing procedure:

Increase approach and landing speeds, according to the following flap settings, until landing is assured. Reduce airspeed to cross runway threshold (50 ft) at VREF.

Flaps 15—Increase Speed by 10 KIAS (130+10)

Flaps 25—Increase Speed by 10 KIAS (VREF25+10)

Flaps 45—Increase Speed by 5 KIAS (VREF45+5)

Go-Around procedure:

Reduce values from Maximum Landing Weight Approach Climb Limited charts by:

1500 lbs. for PW 118 Engines

1544 lbs. for PW 118A and 118B Engines

Flaps 15—Increase approach climb speed by 10 KIAS (V2+10);

Decrease approach climb gradient by:

3.0% for PW 118 Engines

2.9% for PW 118A and 118B Engines

Flaps 25—Increase landing climb speed by 10 KIAS (VREF25+10)

Flaps 45—Increase landing climb speed by 5 KIAS (VREF+5)

Caution: The ice protection systems must be turned on immediately (except leading edge de-icers during takeoff) when the ICE CONDITION light illuminates on the multiple alarm panel or when any ice accretion is detected by visual observation or other cues.

Caution: Do not interrupt the automatic sequence of operation of the leading edge de-ice boots once it is turned ON. The system should be turned OFF only after leaving the icing conditions and after the protected surfaces of the wing are free of ice.”

New Requirements of this AD—Ice Detector Installation

(b) For airplanes identified in any of Parts I, II, III, IV, V, and VI of EMBRAER Service Bulletin 120-30-0027, Change 02, dated December 3, 1997; Change 03, dated June 26, 1998; or Change 04, dated July 13, 1999: Within 30 days after the effective date of this AD, install an ice detector system in accordance with the service bulletin.

Alternative Methods of Compliance

(c)(1) An alternative method of compliance or adjustment of the compliance time that provides an acceptable level of safety may be used if approved by the Manager, Atlanta Aircraft Certification Office, FAA. Operators shall submit their requests through an appropriate FAA Principal Maintenance Inspector, who may add comments and then send it to the Manager, Atlanta ACO.

(2) Alternative methods of compliance, approved previously in accordance with AD 97-26-06, amendment 39-10249, are approved as alternative methods of compliance with this AD.

Note 2: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Note 3: The subject of this AD is addressed in Brazilian airworthiness directive 97-06-03R1, dated December 15, 1997.

Issued in Renton, Washington, on September 14, 2000.
Donald L. Riggin,
Acting Manager, Transport Airplane Directorate, Aircraft Certification Service.

[FR Doc. 00-24117 Filed 9-19-00; 8:45 am]

BILLING CODE 4910-13-U